DEPARTMENT OF DEFENSE

Office of the Secretary

Revised Non-Foreign Overseas Per Diem Rates

AGENCY: Defense Human Resources Activity, Department of Defense (DoD).

ACTION: Notice of revised per diem rates in non-foreign areas outside the Continental U.S.

SUMMARY: Defense Human Resources Activity publishes this Civilian Personnel Per Diem Bulletin Number 324. Bulletin Number 324 lists current per diem rates prescribed for reimbursement of subsistence expenses while on official Government travel to Alaska, Hawaii, the Commonwealth of Puerto Rico, and the possessions of the United States. The fiscal year (FY) 2023 lodging and meal rate review for the U.S. Virgin Islands resulted in rate changes for multiple locations.

DATES: The updated rates take effect October 1, 2023.

FOR FURTHER INFORMATION CONTACT: Mr. David Maly, 571-372-1316, david.j.maly.civ@mail.mil.

SUPPLEMENTARY INFORMATION: This document notifies the public of revisions in per diem rates prescribed by the Per Diem, Travel, and Transportation Allowance Committee for travel to non-foreign areas outside the continental United States. The FY 2023 lodging and meal rate review for the U.S. Virgin Islands resulted in rate changes for multiple locations. Bulletin Number 324 is published in the Federal Register to ensure that Government travelers outside the DoD are notified of revisions to the current reimbursement rates.

If you believe the lodging, meal or incidental allowance rate for a locality listed in the following table is insufficient, you may request a rate review for that location. For more information about how to request a review, please see the Defense Travel Management Office's Per Diem Rate Review Frequently Asked Questions (FAQ) page at https://www.travel.dod.mil/Travel-Transportation-Rates/Per-Diem/.

Dated: September 21, 2023.
Aaron T. Siegel,
Alternate OSD Federal Register Liaison Officer, Department of Defense.

State or territory | Locality | Season start | Season end | Lodging | M&IE | Total per diem | Effective date
ALASKA | [OTHER] | 01/01 | 12/31 | 193 | 121 | 314 | 11/01/2022
ALASKA | ADAK | 01/01 | 12/31 | 193 | 121 | 314 | 11/01/2022
ALASKA | ANCHORAGE | 01/01 | 12/31 | 229 | 145 | 374 | 11/01/2022
ALASKA | BARROW | 05/01 | 08/31 | 301 | 129 | 430 | 11/01/2022
ALASKA | BARROW | 09/01 | 04/30 | 266 | 129 | 395 | 11/01/2022
ALASKA | BARTER ISLAND LRRS | 01/01 | 12/31 | 193 | 121 | 314 | 11/01/2022
ALASKA | BETHEL | 01/01 | 12/31 | 219 | 101 | 320 | 11/01/2022
ALASKA | BETTLES | 01/01 | 12/31 | 193 | 121 | * 314 | 11/01/2022
ALASKA | CAPE LISBURNE LRRS | 01/01 | 12/31 | 193 | 121 | 314 | 11/01/2022
ALASKA | CAPE NEWENHAM LRRS | 01/01 | 12/31 | 193 | 121 | 314 | 11/01/2022
ALASKA | CAPE ROMANZOF LRRS | 01/01 | 12/31 | 193 | 121 | 314 | 11/01/2022
ALASKA | CLEAR AB | 01/01 | 12/31 | 193 | 121 | 314 | 11/01/2022
ALASKA | COLD BAY | 01/01 | 12/31 | 193 | 121 | 314 | 11/01/2022
ALASKA | COLD BAY LRRS | 01/01 | 12/31 | 193 | 121 | 314 | 11/01/2022
ALASKA | COLDFOOT | 01/01 | 12/31 | 249 | 93 | 342 | 11/01/2022
ALASKA | COPPER CENTER | 01/01 | 12/31 | 193 | 121 | 314 | 11/01/2022
ALASKA | CORDOVA | 01/01 | 12/31 | 174 | 106 | 280 | 11/01/2022
ALASKA | CRAIG | 05/01 | 09/30 | 139 | 94 | 233 | 11/01/2022
ALASKA | CRAIG | 10/01 | 04/30 | 109 | 94 | 203 | 11/01/2022
ALASKA | DEADHORSE | 01/01 | 12/31 | 193 | 121 | * 314 | 11/01/2022
ALASKA | DELTA JUNCTION | 01/01 | 12/31 | 193 | 106 | 299 | 11/01/2022
ALASKA | DENALI NATIONAL PARK | 05/01 | 09/30 | 189 | 118 | 307 | 11/01/2022
ALASKA | DENALI NATIONAL PARK | 10/01 | 04/30 | 99 | 118 | 217 | 11/01/2022
ALASKA | DILLINGHAM | 01/01 | 12/31 | 320 | 113 | 433 | 11/01/2022
ALASKA | DUTCH HARBOR-UNALASKA | 01/01 | 12/31 | 154 | 129 | 283 | 11/01/2022
ALASKA | EARECKSON AIR STATION | 01/01 | 12/31 | 146 | 74 | 220 | 11/01/2022
ALASKA | EIELSON AFB | 05/16 | 09/30 | 204 | 108 | 312 | 11/01/2022
ALASKA | EIELSON AFB | 10/01 | 05/15 | 129 | 108 | 237 | 11/01/2022
ALASKA | ELFIN COVE | 01/01 | 12/31 | 193 | 121 | 314 | 11/01/2022
ALASKA | ELMENDORF AFB | 01/01 | 12/31 | 229 | 145 | 374 | 11/01/2022
ALASKA | FAIRBANKS | 05/16 | 09/30 | 204 | 108 | 312 | 11/01/2022
ALASKA | FAIRBANKS | 10/01 | 05/15 | 129 | 108 | 237 | 11/01/2022
ALASKA | FORT YUKON LRRS | 01/01 | 12/31 | 193 | 121 | 314 | 11/01/2022
ALASKA | FT. GREELY | 01/01 | 12/31 | 193 | 106 | 299 | 11/01/2022
ALASKA | FT. RICHARDSON | 01/01 | 12/31 | 229 | 145 | 374 | 11/01/2022
ALASKA | FT. WAINWRIGHT | 05/16 | 09/30 | 204 | 108 | 312 | 11/01/2022
ALASKA | FT. WAINWRIGHT | 10/01 | 05/15 | 129 | 108 | 237 | 11/01/2022
ALASKA | GAMBELL | 01/01 | 12/31 | 193 | 121 | 314 | 11/01/2022
ALASKA | GLENNALLEN | 01/01 | 12/31 | 193 | 121 | 314 | 11/01/2022
ALASKA | HAINES | 05/01 | 09/30 | 184 | 113 | 297 | 11/01/2022
ALASKA | HAINES | 10/01 | 04/30 | 159 | 113 | 272 | 11/01/2022
ALASKA | HEALY | 05/01 | 09/30 | 189 | 118 | 307 | 11/01/2022
ALASKA | HEALY | 10/01 | 04/30 | 99 | 118 | 217 | 11/01/2022
ALASKA | HOMER | 05/01 | 09/30 | 210 | 124 | 334 | 11/01/2022
ALASKA | HOMER | 10/01 | 04/30 | 129 | 124 | 253 | 11/01/2022
ALASKA | JB ELMENDORF-RICHARDSON | 01/01 | 12/31 | 229 | 145 | 374 | 11/01/2022
ALASKA | JUNEAU | 02/01 | 09/30 | 249 | 118 | 367 | 11/01/2022
ALASKA | JUNEAU | 10/01 | 01/31 | 189 | 118 | 307 | 11/01/2022
ALASKA | KAKTOVIK | 01/01 | 12/31 | 193 | 121 | * 314 | 11/01/2022
ALASKA | KAVIK CAMP | 01/01 | 12/31 | 193 | 121 | * 314 | 11/01/2022
ALASKA | KENAI-SOLDOTNA | 05/01 | 09/30 | 171 | 113 | 284 | 11/01/2022
ALASKA | KENAI-SOLDOTNA | 10/01 | 04/30 | 129 | 113 | 242 | 11/01/2022
ALASKA | KENNICOTT | 01/01 | 12/31 | 193 | 121 | 314 | 11/01/2022
ALASKA | KETCHIKAN | 05/01 | 09/30 | 250 | 118 | 368 | 11/01/2022
ALASKA | KETCHIKAN | 10/01 | 04/30 | 160 | 118 | 278 | 11/01/2022
ALASKA | KING SALMON | 01/01 | 12/31 | 193 | 121 | 314 | 11/01/2022
ALASKA | KING SALMON LRRS | 01/01 | 12/31 | 193 | 121 | 314 | 11/01/2022
ALASKA | KLAWOCK | 05/01 | 09/30 | 139 | 94 | 233 | 11/01/2022
ALASKA | KLAWOCK | 10/01 | 04/30 | 109 | 94 | 203 | 11/01/2022
ALASKA | KODIAK | 03/01 | 09/30 | 223 | 109 | 332 | 11/01/2022
ALASKA | KODIAK | 10/01 | 02/28 | 121 | 109 | 230 | 11/01/2022
ALASKA | KOTZEBUE | 01/01 | 12/31 | 193 | 121 | 314 | 11/01/2022
ALASKA | KULIS AGS | 01/01 | 12/31 | 229 | 145 | 374 | 11/01/2022
ALASKA | MCCARTHY | 01/01 | 12/31 | 193 | 121 | 314 | 11/01/2022
ALASKA | MCGRATH | 01/01 | 12/31 | 193 | 121 | * 314 | 11/01/2022
ALASKA | MURPHY DOME | 05/16 | 09/30 | 204 | 108 | 312 | 11/01/2022
ALASKA | MURPHY DOME | 10/01 | 05/15 | 129 | 108 | 237 | 11/01/2022
ALASKA | NOME | 05/01 | 08/31 | 250 | 118 | 368 | 11/01/2022
ALASKA | NOME | 09/01 | 04/30 | 242 | 118 | 360 | 11/01/2022
ALASKA | NOSC ANCHORAGE | 01/01 | 12/31 | 229 | 145 | 374 | 11/01/2022
ALASKA | NUIQSUT | 01/01 | 12/31 | 193 | 121 | * 314 | 11/01/2022
ALASKA | OLIKTOK LRRS | 01/01 | 12/31 | 193 | 121 | 314 | 11/01/2022
ALASKA | PALMER | 01/01 | 12/31 | 196 | 131 | 327 | 11/01/2022
ALASKA | PETERSBURG | 01/01 | 12/31 | 130 | 108 | 238 | 11/01/2022
ALASKA | POINT BARROW LRRS | 01/01 | 12/31 | 193 | 121 | 314 | 11/01/2022
ALASKA | POINT HOPE | 01/01 | 12/31 | 193 | 121 | * 314 | 11/01/2022
ALASKA | POINT LONELY LRRS | 01/01 | 12/31 | 193 | 121 | 314 | 11/01/2022
ALASKA | PORT ALEXANDER | 01/01 | 12/31 | 193 | 121 | * 314 | 11/01/2022
ALASKA | PORT ALSWORTH | 01/01 | 12/31 | 193 | 121 | 314 | 11/01/2022
ALASKA | PRUDHOE BAY | 01/01 | 12/31 | 193 | 121 | * 314 | 11/01/2022
ALASKA | SELDOVIA | 05/01 | 09/30 | 210 | 124 | 334 | 11/01/2022
ALASKA | SELDOVIA | 10/01 | 04/30 | 129 | 124 | 253 | 11/01/2022
ALASKA | SEWARD | 04/01 | 09/30 | 284 | 164 | 448 | 11/01/2022
ALASKA | SEWARD | 10/01 | 03/31 | 129 | 164 | 293 | 11/01/2022
ALASKA | SITKA-MT. EDGECUMBE | 04/01 | 09/30 | 245 | 116 | 361 | 11/01/2022
ALASKA | SITKA-MT. EDGECUMBE | 10/01 | 03/31 | 199 | 116 | 315 | 11/01/2022
ALASKA | SKAGWAY | 05/01 | 09/30 | 250 | 118 | 368 | 11/01/2022
ALASKA | SKAGWAY | 10/01 | 04/30 | 160 | 118 | 278 | 11/01/2022
ALASKA | SLANA | 01/01 | 12/31 | 193 | 121 | 314 | 11/01/2022
ALASKA | SPARREVOHN LRRS | 01/01 | 12/31 | 193 | 121 | 314 | 11/01/2022
ALASKA | SPRUCE CAPE | 03/01 | 09/30 | 223 | 109 | 332 | 11/01/2022
ALASKA | SPRUCE CAPE | 10/01 | 02/28 | 121 | 109 | 230 | 11/01/2022
ALASKA | ST. GEORGE | 01/01 | 12/31 | 193 | 121 | 314 | 11/01/2022
ALASKA | TALKEETNA | 01/01 | 12/31 | 193 | 123 | 316 | 11/01/2022
ALASKA | TANANA | 05/01 | 08/31 | 250 | 118 | 368 | 11/01/2022
ALASKA | TANANA | 09/01 | 04/30 | 242 | 118 | 360 | 11/01/2022
ALASKA | TATALINA LRRS | 01/01 | 12/31 | 193 | 121 | 314 | 11/01/2022
ALASKA | TIN CITY LRRS | 01/01 | 12/31 | 193 | 121 | 314 | 11/01/2022
ALASKA | TOK | 01/01 | 12/31 | 105 | 113 | 218 | 11/01/2022
ALASKA | VALDEZ | 05/16 | 09/15 | 230 | 110 | 340 | 11/01/2022
ALASKA | VALDEZ | 09/16 | 05/15 | 105 | 110 | 215 | 11/01/2022
ALASKA | WAINWRIGHT | 01/01 | 12/31 | 295 | 77 | 372 | 11/01/2022
ALASKA | WASILLA | 06/01 | 09/30 | 216 | 104 | 320 | 11/01/2022
ALASKA | WASILLA | 10/01 | 05/31 | 108 | 104 | 212 | 11/01/2022
ALASKA | WRANGELL | 05/01 | 09/30 | 250 | 118 | 368 | 11/01/2022
ALASKA | WRANGELL | 10/01 | 04/30 | 160 | 118 | 278 | 11/01/2022
ALASKA | YAKUTAT | 06/01 | 09/30 | 350 | 111 | 461 | 11/01/2022
ALASKA | YAKUTAT | 10/01 | 05/31 | 150 | 111 | 261 | 11/01/2022
AMERICAN SAMOA | AMERICAN SAMOA | 01/01 | 12/31 | 149 | 103 | 252 | 05/01/2023
AMERICAN SAMOA | PAGO PAGO | 01/01 | 12/31 | 149 | 103 | 252 | 05/01/2023
GUAM | GUAM (INCL ALL MIL INSTAL) | 01/01 | 12/31 | 159 | 124 | 283 | 02/01/2023
GUAM | JOINT REGION MARIANAS (ANDERSEN) | 01/01 | 12/31 | 159 | 124 | 283 | 02/01/2023
GUAM | JOINT REGION MARIANAS (NAVAL BASE) | 01/01 | 12/31 | 159 | 124 | 283 | 02/01/2023
GUAM | TAMUNING | 01/01 | 12/31 | 159 | 124 | 283 | 02/01/2023
HAWAII | [OTHER] | 01/01 | 12/31 | 229 | 157 | 386 | 02/01/2023
HAWAII | CAMP H M SMITH | 01/01 | 12/31 | 202 | 157 | 359 | 02/01/2023
HAWAII | CNI NAVMAG PEARL HARBOR- HICKAM | 01/01 | 12/31 | 202 | 157 | 359 | 02/01/2023
HAWAII | FT. DERUSSEY | 01/01 | 12/31 | 202 | 157 | 359 | 02/01/2023
HAWAII | FT. SHAFTER | 01/01 | 12/31 | 202 | 157 | 359 | 02/01/2023
HAWAII | HICKAM AFB | 01/01 | 12/31 | 202 | 157 | 359 | 02/01/2023
HAWAII | HONOLULU | 01/01 | 12/31 | 202 | 157 | 359 | 02/01/2023
HAWAII | ISLE OF HAWAII: HILO | 01/01 | 12/31 | 199 | 146 | 345 | 02/01/2023
HAWAII | ISLE OF HAWAII: LOCATIONS OTHER THAN HILO | 01/01 | 12/31 | 229 | 173 | 402 | 02/01/2023
HAWAII | ISLE OF KAUAI | 01/01 | 12/31 | 325 | 165 | 490 | 02/01/2023
HAWAII | ISLE OF LANAI | 01/01 | 12/31 | 229 | 157 | 386 | 02/01/2023
HAWAII | ISLE OF MAUI | 01/01 | 12/31 | 354 | 153 | 507 | 02/01/2023
HAWAII | ISLE OF MOLOKAI | 01/01 | 12/31 | 229 | 157 | 386 | 02/01/2023
HAWAII | ISLE OF OAHU | 01/01 | 12/31 | 202 | 157 | 359 | 02/01/2023
HAWAII | JB PEARL HARBOR-HICKAM | 01/01 | 12/31 | 202 | 157 | 359 | 02/01/2023
HAWAII | KAPOLEI | 01/01 | 12/31 | 202 | 157 | 359 | 02/01/2023
HAWAII | KEKAHA PACIFIC MISSILE RANGE FAC | 01/01 | 12/31 | 325 | 165 | 490 | 03/01/23
HAWAII | KILAUEA MILITARY CAMP | 01/01 | 12/31 | 199 | 146 | 345 | 02/01/2023
HAWAII | LIHUE | 01/01 | 12/31 | 325 | 165 | 490 | 02/01/2023
HAWAII | MCB HAWAII | 01/01 | 12/31 | 202 | 157 | 359 | 02/01/2023
HAWAII | NCTAMS PAC WAHIAWA | 01/01 | 12/31 | 202 | 157 | 359 | 02/01/2023
HAWAII | NOSC PEARL HARBOR | 01/01 | 12/31 | 202 | 157 | 359 | 02/01/2023
HAWAII | PEARL HARBOR | 01/01 | 12/31 | 202 | 157 | 359 | 02/01/2023
HAWAII | PMRF BARKING SANDS | 01/01 | 12/31 | 325 | 165 | 490 | 02/01/2023
HAWAII | SCHOFIELD BARRACKS | 01/01 | 12/31 | 202 | 157 | 359 | 02/01/2023
HAWAII | TRIPLER ARMY MEDICAL CENTER | 01/01 | 12/31 | 202 | 157 | 359 | 02/01/2023
HAWAII | WHEELER ARMY AIRFIELD | 01/01 | 12/31 | 202 | 157 | 359 | 02/01/2023
MIDWAY ISLANDS | MIDWAY ISLANDS | 01/01 | 12/31 | 125 | 81 | 206 | 05/01/2023
NORTHERN MARIANA ISLANDS | ROTA | 01/01 | 12/31 | 130 | 125 | 255 | 05/01/2023
NORTHERN MARIANA ISLANDS | SAIPAN | 01/01 | 12/31 | 161 | 113 | 274 | 05/01/2023
NORTHERN MARIANA ISLANDS | TINIAN | 01/01 | 12/31 | 145 | 95 | 240 | 05/01/2023
PUERTO RICO | [OTHER] | 01/01 | 12/31 | 159 | 100 | 259 | 05/01/2021
PUERTO RICO | AGUADILLA | 01/01 | 12/31 | 149 | 90 | 239 | 05/01/2021
PUERTO RICO | BAYAMON | 12/01 | 05/31 | 195 | 115 | 310 | 05/01/2021
PUERTO RICO | BAYAMON | 06/01 | 11/30 | 167 | 115 | 282 | 05/01/2021
PUERTO RICO | CAROLINA | 12/01 | 05/31 | 195 | 115 | 310 | 05/01/2021
PUERTO RICO | CAROLINA | 06/01 | 11/30 | 167 | 115 | 282 | 05/01/2021
PUERTO RICO | CEIBA | 01/01 | 12/31 | 159 | 110 | 269 | 05/01/2021
PUERTO RICO | CULEBRA | 01/01 | 12/31 | 159 | 105 | 264 | 05/01/2021
PUERTO RICO | FAJARDO [INCL ROOSEVELT RDS NAVSTAT] | 01/01 | 12/31 | 159 | 110 | 269 | 05/01/2021
PUERTO RICO | FT. BUCHANAN [INCL GSA SVC CTR, GUAYNABO] | 12/01 | 05/31 | 195 | 115 | 310 | 05/01/2021
PUERTO RICO | FT. BUCHANAN [INCL GSA SVC CTR, GUAYNABO] | 06/01 | 11/30 | 167 | 115 | 282 | 05/01/2021
PUERTO RICO | HUMACAO | 01/01 | 12/31 | 159 | 110 | 269 | 05/01/2021
PUERTO RICO | LUIS MUNOZ MARIN IAP AGS | 12/01 | 05/31 | 195 | 115 | 310 | 05/01/2021
PUERTO RICO | LUIS MUNOZ MARIN IAP AGS | 06/01 | 11/30 | 167 | 115 | 282 | 05/01/2021
PUERTO RICO | LUQUILLO | 01/01 | 12/31 | 159 | 110 | 269 | 05/01/2021
PUERTO RICO | MAYAGUEZ | 01/01 | 12/31 | 109 | 94 | 203 | 05/01/2021
PUERTO RICO | PONCE | 01/01 | 12/31 | 149 | 130 | 279 | 05/01/2021
PUERTO RICO | RIO GRANDE | 01/01 | 12/31 | 169 | 85 | 254 | 05/01/2021
PUERTO RICO | SABANA SECA [INCL ALL MILITARY] | 12/01 | 05/31 | 195 | 115 | 310 | 05/01/2021
PUERTO RICO | SABANA SECA [INCL ALL MILITARY] | 06/01 | 11/30 | 167 | 115 | 282 | 05/01/2021
PUERTO RICO | SAN JUAN & NAV RES STA | 12/01 | 05/31 | 195 | 115 | 310 | 05/01/2021
PUERTO RICO | SAN JUAN & NAV RES STA | 06/01 | 11/30 | 167 | 115 | 282 | 05/01/2021
PUERTO RICO | VIEQUES | 01/01 | 12/31 | 159 | 94 | 253 | 05/01/2021
VIRGIN ISLANDS (U.S.) | ST. CROIX | 05/01 | 10/31 | 247 | 115 | 362 | 10/01/2023
VIRGIN ISLANDS (U.S.) | ST. CROIX | 11/01 | 04/30 | 299 | 115 | 414 | 10/01/2023
VIRGIN ISLANDS (U.S.) | ST. JOHN | 04/15 | 12/15 | 274 | 150 | 424 | 10/01/2023
VIRGIN ISLANDS (U.S.) | ST. JOHN | 12/16 | 04/14 | 364 | 150 | 514 | 10/01/2023
VIRGIN ISLANDS (U.S.) | ST. THOMAS | 04/15 | 12/15 | 274 | 150 | 424 | 10/01/2023
VIRGIN ISLANDS (U.S.) | ST. THOMAS | 12/16 | 04/14 | 364 | 150 | 514 | 10/01/2023
WAKE ISLAND | WAKE ISLAND | 01/01 | 12/31 | 133 | 73 | 206 | 05/01/2023
* Where meals are included in the lodging rate, a traveler is only allowed a meal rate on the first and last day of travel.

[FR Doc. 2023-20926 Filed 9-25-23; 8:45 am]

BILLING CODE 5001-06-P